DEPARTMENT OF HEALTH AND HUMAN SERVICES

Agency for Toxic Substances and Disease Registry

[Program Announcement-01126]

Enhancement of State, County or Local Public Health Departments Participation in Brownfields Decisions and Actions; Notice of Availability of Funds Amendment

A notice announcing the availability of fiscal year 2001 funds for the Enhancement of State, County or Local Public Health Departments Participation in Brownfield Decisions and Actions was published in the Federal Register on June 27, 2001, [Vol. 66, No. 124, page 34201]. The notice is amended as follows:

On page 34201, under B., include:

A. Eligible Applicants

Applicants will be limited to the official county, city, federally recognized tribal governments, and other local public health agencies of local communities (with the exception of Rhode Island where the State Health Department is the eligible applicant) located in the twenty-eight (28) Brownfields Showcase Communities as designated by the Environmental Protection Agency (EPA) 62 FR 44274 & 65 FR 14273). The Brownfield Showcase Communities are:

1. Baltimore, Maryland

2. Chicago, Illinois

3. Dallas, Texas

4. Denver, Colorado

5. Des Moines, Iowa

6. East Palo Alto, Califronia

7. Gila River Indian Community, Arizona

8. Glen Cove, New York

9. Houston, Texas

10. Jackson, Mississippi

11. Kansas City, Kansas & Missouri

12. Los Angeles, California

13. Lowell, Massachusetts

14. Metlakatla Indian Community, Alaska

15. Milwaukee, Wisconsin

16. Mystic Valley Development Commission (Malden, Medford, Everett), Massachusetts

17. New Bedford, Massachusetts

18. Niagara Region, New York

19. Cape Charles/Northhampton County, Virginia

20. Portland, Oregon

21. State of Rhode Island

22. Saint Louis, Missouri/East St. Louis, Illinois

23. Saint Paul, Minnesota

24. Salt Lake City, Utah

25. Seattle/King County, Washington

26. Southeast Florida (Eastward Ho!, Florida

27. Stanford, Connecticut

28. Trenton, New Jersey

Note: Title 2 of the United States Code, Chapter 26, Section 1611 states that an organization described in Section 501 (c)(4) of the Internal Revenue Code of 1986 that engages in lobbying activities is not eligible to receive Federal funds constituting an award, grant, cooperative agreement, contract, loan, or any form.

Dated: July 9, 2001.
Donna Garland,
Deputy Director, Office of Policy and External Affairs, Agency for Toxic Substances and Disease Registry.

[FR Doc. 01-17534 Filed 7-12-01; 8:45 am]

BILLING CODE 4163-70-P